DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2002, there were two applications approved. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 1010-508) and Part 158 of the Federal Aviation Regulations (14 CFR part 158). This notice is published pursuant to paragraph d of § 158.29.

PFC Applications Approved

Public Agency: Duluth Airport Authority, Duluth, Minnesota.

Application Number: 01-05-C-00-DLH.

Application Type: Impose and use a PFC.

PFC Level: $4.50.

Total PFC Revenue Approved in This Decision: $541,256.

Earliest Charge Effective Date: April 1, 2002.

Estimated Charge Expiration Date: April 1, 2003.

Class of Air Carriers Not Required To Collect PFC's: Non scheduled Part 135 air taxi/commercial operators.

Determination: Approved. Based on information contained in the public agency's application, the FAA has determined that the approved class accounts for less than 1 percent of the total annual enplanements at Duluth International Airport (DLH)

Brief Description of Projects Approved for Collection and Use:

Preparation of PFC application.

Upgrade surveillance camera system (phase II).

Repair and replace concrete panels for runway 9/27 and reconstruct a segment of taxiway A at the easterly connection with runway 3/21.

Reconstruct passenger terminal apron.

Improve runway 9 safety area (west end).

Install high intensity approach lighting system with sequenced flashing lights to serve runway 9.

Acquire 8.5 acres of wetland credits.

Improve runway safety area at the southwest end of runway 3821.

Construct a perimeter road around the southwest end of runway 3/21.

Install security/deer fence.

Brief Description of Disapproved Project: Design category II instrument landing system and midfield remote visual range to serve runway 9.

Determination: Disapproved. The FAA has determined that the activity levels under Category II conditions at DLH do not meet the criteria for FAA establishment of a Category II instrument landing system (ILS) for runway 9, based on a feasibility study (case number 98-AGL-1457-NRA) for the Category II ILS proposal that was conducted in 1998.

Decision Date: January 16, 2002.

FOR FURTHER INFORMATION CONTACT: Gordon Nelson, Minneapolis Airports District Office, (612) 713-4358.

Public Agency: Broome County Department of Aviation, Binghamton, New York.

Application Number: 02-05-C-00-BGM.

Application Type: Impose and use a PFC.

PFC Level: $3.00.

Total PFC Revenue Approved in This Decision: $1,445,438.

Earliest Charge Effective Date: April 1, 2002.

Estimated Charge Expiration Date: October 1, 2006.

Class of Air Carriers Not Required To Collect PFC's: Non-scheduled/on demand air carriers filing FAA Form 1800-31.

Determination: Approved. Based on information submitted in the public agency's application, the FAA has determined that the approved class accounts for less than 1 percent of the total annual enplanements at Binghamton Regional Airport.

Brief Description of Projects Approved for Collection and Use:

Snow removal equipment purchase.

Fire rescue equipment.

Runway 16/34 runway safety area engineered materials arresting systems design/construction.

Airport master plan update.

Brief Description of Projects Approved for Collection: Aircraft rescue and firefighting facility refurbishment. Passenger boarding bridge purchase. Runway 16/34 refurbishment design/construction.

Brief Description of Project Approved for Use: Maintenance building construction—construction phase.

Decision Date: January 23, 2002.

FOR FURTHER INFORMATION CONTACT: Philip Brito, New York Airports District Office, (516) 227-3800.

Amendments to PFC Approvals
Amendment No. City, State | Amendment approved date | Original approved net PFC revenue | Amended approved net PFC revenue | Original estimated charge exp. date | Amended estimated charge exp. date
*99-01-C-01-ABR, Aberdeen, SD | 10/12/01 | $677,809 | $677,809 | 05/01/07 | 10/01/05
96-02-C-01-DAB, Daytona Beach, FL | 11/08/01 | 4,318,671 | 8,254,367 | 02/01/05 | 09/01/07
*99-04-C-01-MOT, Minot, ND | 11/19/01 | 757,551 | 757,551 | 02/01/04 | 04/01/03
01-07-C-01-MRY, Monterey, CA | 01/09/02 | 381,935 | 463,166 | 03/01/02 | 08/01/02
*02-05-C-00-MSY, New Orleans, LA | 01/10/02 | 211,200,626 | 148,665,172 | 03/01/10 | 04/01/05
*96-01-C-01-RDD, Redding, CA | 01/11/02 | 1,195,000 | 920,000 | 06/01/05 | 07/01/02
*98-03-C-01-SJT, San Angelo, TX | 01/16/02 | 946,651 | 921,993 | 07/01/06 | 12/01/04
00-04-U-01-SJT, San Angelo, TX | 01/16/02 | NA | NA | 07/01/06 | 12/01/04
*98-03-C-01-SUX, Sioux City, IA | 01/23/02 | 610,536 | 610,536 | 03/01/04 | 01/01/04
*97-06-C-01-CMH, Columbus, OH | 01/28/02 | 40,005,400 | 41,322,417 | 01/01/04 | 06/01/04
Note.—The amendments denoted by an asterisk (*) include a change to the PFC level charged from $3.00 per enplaned passenger to $4.50 per enplaned passenger. For Aberdeen, SD, this change is effective on January 1, 2002. For Minot, ND, this change is effective on February 1, 2002. For Sioux City, IA, this change is effective on March 1, 2002. For Redding, CA, New Orleans, LA, Columbus, OH, and San Angelo, TX, this change is effective on April 1, 2002.

Issued in Washington, DC, on March 7, 2002.
Barry Molar,
Manager, Airports Financial Assistance Division.

[FR Doc. 02-6367 Filed 3-15-02; 8:45 am]

BILLING CODE 4910-13-M